DEPARTMENT OF HEALTH AND HUMAN SERVICES

Centers for Disease Control and Prevention

[60Day-05-05CS]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-371-5983 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Nurse-Delivered Risk Reduction Intervention for HIV-Infected Women-New-National Center for HIV, STD, and TB Prevention (NCHSTP), Centers for Disease Control and Prevention (CDC).

Background and Brief Description: CDC is requesting a 3-year approval from the Office of Management and Budget (OMB) to administer a questionnaire and a one-on-one qualitative interview to HIV-infected women in the southern United States who are at risk for further transmission of the disease. This study is designed to adapt and evaluate an HIV transmission prevention intervention for the growing population of HIV-infected women in the South and to study factors associated with risk among women. The primary outcome will be a reduction in sexual risk behavior as a result of a brief, nurse-delivered prevention intervention adapted for use with HIV-infected women in the South. The project will also conduct in-depth qualitative interviews of young, recently HIV-infected women to assess social and environmental factors that contribute to behavioral risk for HIV infection. The project addresses goals of the CDC HIV Prevention Strategic Plan, specifically the goal of increasing the number of HIV-infected persons who are linked to appropriate prevention, care, and treatment services. In addition, information from this research will inform future prevention interventions that encompass individual and contextual factors.

Approximately 550 women will be screened for eligibility to participate in the study, and a minimum of 330 women from one or two sites will be recruited and administered baseline and follow-up behavioral risk assessments in a randomized wait-list comparison design with a 6-month follow-up period. That is, the intervention and comparison group will complete an assessment at the baseline and in 6 months a follow-up assessment will be conducted to compare behavior change. Six months after the intervention group has been provided the intervention and follow-up, women in the comparison group will receive the intervention. The assessments will capture information on demographics, risk behaviors, attitudes, and knowledge related to HIV/STD transmission and prevention. Semi-structured qualitative interviews will be conducted with a subgroup of 25-30 young, recently-diagnosed participants following their participation in the intervention study. These interviews will explore behavioral, social, and contextual conditions that may have contributed to the women's risk for HIV infection and ideas about preventing other women from becoming infected. The two behavioral assessments will take about 1 hour each to complete, the nurse-delivered intervention will take about 1 hour to complete, and the qualitative interviews will take about 2 hours to complete. The screening interview will take about 10 minutes to complete. There is no cost to respondents other than the time it takes them to participate.

Estimate of Annualized Burden Table
Respondents | Number of respondents | Number of responses per respondent | Burden per response (in hours) | Total burden (in hours)
Women—screening interview | 550 | 1 | 10/60 | 92
Women—assessment interviews | 330 | 2 | 1 | 660
Women—intervention | 330 | 1 | 1 | 330
Women—qualitative interviews | 30 | 1 | 2 | 60
Total |  |  |  | 1142

Dated: August 11, 2005.
Joan F. Karr,
Acting Reports Clearance Officer, Centers for Disease Control and Prevention.

[FR Doc. 05-16369 Filed 8-17-05; 8:45 am]

BILLING CODE 4163-18-P